DEPARTMENT OF HOMELAND SECURITY

Federal Emergency Management Agency

[Docket ID: FEMA-2024-0037; OMB No. 1660-0011]

Agency Information Collection Activities: Submission for OMB Review, Comment Request; Debt Collection Financial Statement

AGENCY: Federal Emergency Management Agency, Department of Homeland Security.

ACTION: 30-Day Notice of Extension and Request for Comments.

SUMMARY: The Federal Emergency Management Agency (FEMA) will submit the information collection abstracted below to the Office of Management and Budget for review and clearance in accordance with the requirements of the Paperwork Reduction Act of 1995. FEMA invites the general public to take this opportunity to comment on an extension of a currently approved information collection. In accordance with the requirements of the Paperwork Reduction Act of 1995, this notice seeks comments concerning the collection of information related to disaster program accounts and debts owed to FEMA by individuals.

DATES: Comments must be submitted on or before May 30, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Andrew McCormick, Section Chief, Accounts Receivable, FEMA Finance Center, (540) 532-7501, drew.mccormick@fema.dhs.gov.

SUPPLEMENTARY INFORMATION: This proposed information collection previously published in the Federal Register at 90 FR 4759, Jan. 16, 2025 with a 60-day public comment period. No comments were received. The purpose of this notice is to notify the public that FEMA will submit the information collection abstracted below to the Office of Management and Budget for review and clearance.

Collection of Information

Title: Debt Collection Financial Statement.

Type of Information Collection: Extension, without change, of a currently approved information collection.

OMB Number: 1660-0011.

FEMA Forms: Debt Collection Financial Statement, FEMA Form FF-600-FY-22-102 (formerly 127-0-1).

Abstract: FEMA Form FF-600-FY-22-102 (formerly 127-0-1) is used to collect information provided voluntarily by the debtor to evaluate the debtor's financial abilities to determine if they qualify for a payment plan and set repayment terms, or determine a compromise to write-off a debt in part or in full. Financial information obtained is essential to evaluate the debtor's ability for the payment of the debt in part or in full. Debt may be a recoupment of an ineligible disaster assistance payment or improper payment to an employee.

Affected Public: Individuals or Households.

Estimated Number of Respondents: 140.

Estimated Number of Responses: 140.

Estimated Total Annual Burden Hours: 105.

Estimated Total Annual Respondent Cost: $4,793.

Estimated Respondents' Operation and Maintenance Costs: $0.

Estimated Respondents' Capital and Start-Up Costs: $0.

Estimated Total Annual Cost to the Federal Government: $23,877.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Rasco-Arthur,
Acting Records Management Branch Chief, Office of the Chief Administrative Officer, Mission Support, Federal Emergency Management Agency, Department of Homeland Security.

[FR Doc. 2025-07445 Filed 4-29-25; 8:45 am]

BILLING CODE 9111-19-P